DEPARTMENT OF COMMERCE

National Oceanic and Atmospheric Administration

[I.D. 072904F]

South Atlantic Fishery Management Council; Public Meeting

AGENCY: National Marine Fisheries Service (NMFS), National Oceanic and Atmospheric Administration (NOAA), Commerce.

ACTION: Notice of a joint public meeting.

SUMMARY: The South Atlantic Fishery Management Council (Council) will hold a joint meeting of its Information and Education Committee and Information and Education Advisory Panel in Charleston, SC.

DATES: The meeting will take place August 24-26, 2004. See SUPPLEMENTARY INFORMATION for specific dates and times.

ADDRESSES: The meeting will be held at the Hampton Inn and Suites, 678 Citadel Haven Drive, Charleston, SC 29414; telephone: 843/573-1200 or toll free 800/426-7866.

FOR FURTHER INFORMATION CONTACT: Kim Iverson, Public Information Officer, South Atlantic Fishery Management Council, One Southpark Circle, Suite 306, Charleston, SC 29407; telephone: 843/571-4366 or toll free 866/SAFMC-10; fax: 843/769-4520.

SUPPLEMENTARY INFORMATION: The Information and Education Committee will meet jointly with the Advisory Panel from 1:30 p.m. until 5 p.m. on August 24,2004, from 8:30 a.m. until 5 p.m. on August 25, 2004, and from 8:30 a.m. until 12 noon on August 26, 2004.

The Information and Education Committee and Advisory Panel will meet jointly to review and discuss issues relative to outreach and public affairs. During the joint meeting, the Committee and Advisory Panel will review and discuss options and develop recommendations to the Council regarding the following: the Council's current Web site design, content, and hosting; an outreach strategy for the Oculina Bank Experimental Closed Area off the central East Coast of Florida; and outreach efforts relevant to the Council's Action Plan for Ecosystem-Based Management. In addition, the Committee and Advisory Panel will review the current regulations brochure and develop recommendations for options regarding design and distribution of the brochure.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to the Council office (see ADDRESSES) by August 23, 2004.

Dated: July 30, 2004.
Alan D. Risenhoover,
Acting Director, Office of Sustainable Fisheries, National Marine Fisheries Service.

[FR Doc. E4-1728 Filed 8-3-04; 8:45 am]

BILLING 3510-22-S